CORPORATION FOR NATIONAL AND COMMUNITY SERVICE

Information Collection; Submission for OMB Review, Comment Request

AGENCY: Corporation for National and Community Service.

ACTION: Notice.

SUMMARY: The Corporation for National and Community Service (hereinafter “Corporation”), in proposing the renewal of its Learn and Serve America (hereinafter “LSA”) grant applications, has submitted two public information collection requests (ICRs) entitled the Learn and Serve America School- and Community-Based Application Instructions and the Learn and Serve America Higher Education Application Instructions to the Office of Management and Budget (OMB) for review and approval in accordance with the Paperwork Reduction Act of 1995, Pub. L. 104-13, (44 U.S.C. Chapter 35). Copies of this ICR, with applicable supporting documentation, may be obtained by calling the Corporation for National and Community Service, Mr. Mark Abbott, at (202) 606-5000, ext. 120. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by either of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment notice was published in the Federal Register on February 2, 2005. This comment period ended April 2, 2005. No public comments were received from this notice.

Description: The Corporation is seeking approval of the LSA Grant Application Instructions, which will assist organizations interested in managing a service-learning program directly or administering grant funds to other eligible organizations in applying for LSA funds.

The Information provided in the applications will be used by Learn and Serve America peer reviewers and staff to ensure the highest quality applications are selected for funding. Yearly updates to these applications will also be used to determine grantee eligibility for second and third year Continuation Grants, which are available to Learn and Serve America grantees subject to funding availability and adequate progress towards meeting performance measures.

Type of Review: Renewal.

Agency: Corporation for National and Community Service.

Title: Learn and Serve America Application Instructions.

OMB Number: 3045-0045 for Learn and Serve America School and Community-Based Application Instructions and 3045-0046 for Learn and Serve America Higher Education Application Instructions.

Agency Number: SF 424-NSSC.

Affected Public: Current/prospective recipients of Learn and Serve America Grants.

Total Respondents: 600 (400 for 3045-0045 and 200 for 3045-0046).

Frequency: Annually.

Average Time Per Response: 10 hours for new applicants, 5 hours for Continuation applicants.

Estimated Total Burden Hours: 6000 hours annually in years with a new competition; 520 hours annually in years with Continuation requests only.

Total Burden Cost (capital/startup): None.

Total Burden Cost (operating/maintenance): $240,000.

Dated: June 6, 2005.
Mark Abbott,
Associate Director for Grants Management, Learn and Serve America.

[FR Doc. 05-11771 Filed 6-14-05; 8:45 am]

BILLING CODE 6050-$$-P